DEPARTMENT OF THE INTERIOR

National Park Service

Notice of Inventory Completion for Native American Human Remains and Associated Funerary Objects in the Possession of the Louisiana Department of Culture, Recreation, and Tourism, Division of Archaeology, Baton Rouge, LA

AGENCY: National Park Service, Interior.

ACTION: Notice.

Notice is hereby given under the Native American Graves Protection and Repatriation Act, 43 CFR 10.10 (a)(3), of the intent to repatriate cultural items in the possession of the Louisiana State Division of Archaeology, Baton Rouge, LA, that meet the definition of “unassociated funerary object” under Section 2 of the Act.

This notice is published as part of the National Park Service's administrative responsibilities under NAGPRA, 43 CFR 10.2 (c). The determinations within this notice are the sole responsibility of the museum, institution, or Federal agency that has control of these cultural items. The National Park Service is not responsible for the determinations within this notice.

The 49 cultural items are complete pottery vessels.

At an unknown date prior to 1985, Roy Pohler purchased these vessels from unknown sources. Museum records indicate that 36 pots were removed from locations in Clark County, AR; 5 pots were removed from the Bowman site, on the Little River, Clark County, AR; 2 pots were removed from Murfreesboro, Pike County, AR; 2 pots were removed from Pike County, AR; 1 pot was removed from Broken Bow, McCurtain County, OK; and 3 pots have no provenience. In 1985, Mr. Pohler donated the pottery vessels to the Louisiana Department of Culture, Recreation, and Tourism, Division of Archaeology.

Consultations with representatives of the Caddo Indian Tribe of Oklahoma and professional staff at the Louisiana Division of Archaeology and Louisiana State University indicate that, based on stylistic attributes, the ceramic vessels are culturally affiliated with the archaeological Caddo culture. The vessels date to the 16th century. The present day descendants of the Caddo people in Arkansas are the Caddo Indian Tribe of Oklahoma.

Because the Caddo are known to have buried their dead along with whole vessels, these pots are considered to be unassociated funerary objects. Based on the above-mentioned information, officials of Louisiana Division of Archaeology have determined that, pursuant to 43 CFR 10.2 (d)(2)(ii), these cultural items are reasonably believed to have been placed with or near individual human remains at the time of death or later as part of the death rite or ceremony and are believed, by a preponderance of the evidence, to have been removed from a specific burial site of a Native American individual. Officials of the Louisiana Division of Archaeology also have determined that, pursuant to 43 CFR 10.2 (e), there is a relationship of shared group identity that can be reasonably traced between these unassociated funerary objects and the Caddo Indian Tribe of Oklahoma.

This notice has been sent to officials of the Caddo Indian Tribe of Oklahoma. Representatives of any other Indian tribe that believes itself to be culturally affiliated with these unassociated funerary objects should contact Dr. Thomas Eubanks, State Archaeologist, Louisiana State Division of Archaeology, 1051 North 3rd Street Room 405, Baton Rouge, LA, telephone (225) 342-8170, before April 24, 2002. Repatriation of these unassociated funerary objects to the Caddo Indian Tribe of Oklahoma may begin after that date if no additional claimants come forward.

Dated: February 6, 2002.
Robert Stearns,
Manager, National NAGPRA Program.

[FR Doc. 02-7009 Filed 3-22-02; 8:45 am]

BILLING CODE 4310-70-S